DEPARTMENT OF TRANSPORTATION

Office of the Secretary

Aviation Proceedings, Agreements Filed the Week Ending January 5, 2007

The following Agreements were filed with the Department of Transportation under the Sections 412 and 414 of the Federal Aviation Act, as amended (49 U.S.C. 1382 and 1384) and procedures governing proceedings to enforce these provisions. Answers may be filed within 21 days after the filing of the application.

Docket Number: OST-2007-26818.

Date Filed: January 5, 2007.

Parties: Members of the International Air Transport Association.

Subject: TC23 Africa-South East Asia Resolutions and Fares Tables (Memo 0313) Minutes: TC23 Middle East, Africa TC3 Passenger Tariff Coordinating Conference (Memo 0321) Intended effective date: 1 April 2007.

Docket Number: OST-2007-26819.

Date Filed: January 5, 2007.

Parties: Members of the International Air Transport Association.

Subject: TC23/123 Middle East-South East Asia Resolutions and Fares Tables (Memo 0308) Minutes: TC23 Middle East, Africa-TC3 Passenger Tariff Coordinating Conference (Memo 0317) Intended effective date: 1 April 2007.

Renee V. Wright,
Program Manager, Docket Operations, Federal Register Liaison.

[FR Doc. E7-407 Filed 1-12-07; 8:45 am]

BILLING CODE 4910-9X-P